DEPARTMENT OF TRANSPORTATION

Federal Aviation Administration

14 CFR Part 39

[Docket No. FAA-2025-5024; Project Identifier MCAI-2025-00797-T]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Notice of proposed rulemaking (NPRM).

SUMMARY: The FAA proposes to supersede Airworthiness Directive (AD) 2024-04-06, which applies to certain Airbus Canada Limited Partnership Model BD-500-1A10 and BD-500-1A11 airplanes. AD 2024-04-06 requires repetitive operational checks of the gravity cross flow shut-off valve and, for certain airplanes, a one-time inspection of the motive flow fuel-feed tubes at the clamp blocks location, and applicable corrective action. Since the FAA issued AD 2024-04-06, the manufacturer developed additional corrective actions. This proposed AD would continue to require the actions in AD 2024-04-06 and would require replacement of the saddle clamp, inspection of the motive flow fuel-feed tubes, and applicable corrective actions. The FAA is proposing this AD to address the unsafe condition on these products.

DATES: The FAA must receive comments on this proposed AD by January 5, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5024; or in person at Docket Operations between 9 a.m. and 5 p.m., Monday through Friday, except Federal holidays. The AD docket contains this NPRM, the mandatory continuing airworthiness information (MCAI), any comments received, and other information. The street address for Docket Operations is listed above.

Material Incorporated by Reference:

• For Transport Canada material identified in this proposed AD, contact Transport Canada, Transport Canada National Aircraft Certification, 159 Cleopatra Drive, Nepean, Ontario K1A 0N5, Canada; telephone 888-663-3639; email TC.AirworthinessDirectives-Consignesdenavigabilite.TC@tc.gc.ca. You may find this material on the Transport Canada website at tc.canada.ca/en/aviation. It is also available at regulations.gov under Docket No. FAA-2025-5024.

• You may view this material at the FAA, Airworthiness Products Section, Operational Safety Branch, 2200 South 216th St., Des Moines, WA. For information on the availability of this material at the FAA, call 206-231-3195.

FOR FURTHER INFORMATION CONTACT: Erica Bayles, Aviation Safety Engineer, FAA, 2200 South 216th St., Des Moines, WA 98198; phone: 907-271-5844; email: erica.e.bayles@faa.gov.

SUPPLEMENTARY INFORMATION:

Comments Invited

The FAA invites you to send any written relevant data, views, or arguments about this proposal. Send your comments using a method listed under the ADDRESSES section. Include “Docket No. FAA-2025-5024; Project Identifier MCAI-2025-00797-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Erica Bayles, Aviation Safety Engineer, FAA, 2200 South 216th St., Des Moines, WA 98198; phone: 907-271-5844; email: erica.e.bayles@faa.gov. Any commentary that the FAA receives which is not specifically designated as CBI will be placed in the public docket for this rulemaking.

Background

The FAA issued AD 2024-04-06, Amendment 39-22685 (89 FR 19228, March 18, 2024) (AD 2024-04-06), for certain Airbus Canada Limited Partnership Model BD-500-1A10 and BD-500-1A11 airplanes. AD 2024-04-06 was prompted by an MCAI originated by Transport Canada, which is the aviation authority for Canada. Transport Canada issued AD CF-2022-70, dated December 21, 2022, to correct an unsafe condition.

AD 2024-04-06 requires repetitive operational checks of the gravity cross flow shut-off valve and, for certain airplanes, a one-time inspection of the motive flow fuel-feed tubes at the clamp blocks location, and applicable corrective action. The FAA issued AD 2024-04-06 to address mechanical wear damage on the motive flow fuel-feed tubes.

Actions Since AD 2024-04-06 Was Issued

AD 2024-04-06 explains that the FAA considers the requirements “interim action” and was considering further rulemaking. The FAA has now determined that further rulemaking is necessary, and this proposed AD follows from that determination. Since the FAA issued AD 2024-04-06, Transport Canada superseded AD CF-2022-70, dated December 21, 2022, and issued Transport Canada AD CF-2025-24, dated April 29, 2025 (Transport Canada AD CF-2025-24) (also referred to as the MCAI), to correct an unsafe condition for certain Airbus Canada Limited Partnership Model BD-500-1A10 and BD-500-1A11 airplanes. The MCAI states there have been several findings of mechanical wear damage on the motive flow fuel-feed tubes that were secured by bonding clamps and clamp blocks inside the collector tank. In some instances, the wear damage led to a hole in a motive flow fuel-feed tube resulting in a fuel imbalance during flight that required the flightcrews to correct the imbalance using the gravity transfer system. Failure of the affected motive flow fuel-feed tubes and a subsequent failure of the gravity transfer system could lead to a fuel imbalance condition resulting in a reduction in airplane functional capabilities and increased crew workload. The MCAI also states that since AD CF-2022-70 was issued, the manufacturer issued new service information to require replacement of the saddle clamp of the motive flow tubes, along with an inspection and rectification of the flow fuel-feed tubes.

The FAA is proposing this AD to address the unsafe condition on these products. You may examine the MCAI in the AD docket at regulations.gov under Docket No. FAA-2025-5024.

Explanation of Retained Requirements

Although this proposed AD does not explicitly restate the requirements of AD 2024-04-06, this proposed AD would retain all of the requirements of AD 2024-04-06. Those requirements are referenced in Transport Canada AD CF-2025-24, which, in turn, is referenced in paragraph (g) of this proposed AD.

Material Incorporated by Reference Under 1 CFR Part 51

The FAA reviewed Transport Canada AD CF-2025-24, which specifies procedures for performing a repetitive operational check of the gravity cross flow shut-off valve and, for certain airplanes, inspecting the motive flow fuel-feed tubes for mechanical wear damage (damage includes, but is not limited to, cracks, scores, scratches, nicks, and gouges) and pre-load condition, and, based on findings, replacing the motive flow fuel-feed tube. This material also specifies procedures for replacing the saddle clamp of the motive flow fuel-feed tubes on both left and right sides, inspecting the motive flow fuel-feed tubes for damage (damage includes, but is not limited to, cracks, scores, scratches, nicks, and gouges) and, based on findings, repairing or replacing the motive flow fuel-feed tube. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this NPRM after determining that the unsafe condition described previously is likely to exist or develop in other products of the same type design.

Proposed AD Requirements in This NPRM

This proposed AD would require accomplishing the actions specified in Transport Canada AD CF-2025-24 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate Transport Canada AD CF-2025-24 by reference in the FAA final rule. This proposed AD would, therefore, require compliance with Transport Canada AD CF-2025-24 in its entirety through that incorporation, except for any differences identified as exceptions in the regulatory text of this proposed AD. Material required by Transport Canada AD CF-2025-24 for compliance will be available at regulations.gov under Docket No. FAA-2025-5024 after the FAA final rule is published.

Costs of Compliance

The FAA estimates that this AD, if adopted as proposed, would affect 94 airplanes of U.S. registry. The FAA estimates the following costs to comply with this proposed AD:

Estimated Costs for Required Actions
Action | Labor cost | Parts cost | Cost per product | Cost on U.S. operators
Retained actions from AD 2024-04-06 | Up to 16.5 work-hours × $85 per hour = $1,403 | $0 | Up to $1,403 | Up to $117,810.
New proposed actions | 6 work-hours × $85 per hour = $510 | 704 | $1,214 | $114,116.

The FAA estimates the following costs to do any necessary on-condition action that would be required based on the results of any required actions. The FAA has no way of determining the number of aircraft that might need this on-condition action:

Estimated Costs of On-Condition Actions
Labor cost | Parts cost | Cost per product
12 work-hours × $85 per hour = $1,020 (retained on-condition actions from AD 2024-04-06) | $5,256 | $6,276.
Up to 12 work-hours × $84 per hour = $1,020 (new proposed on-condition actions) | Up to $5,130 | Up to $6,150.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2024-04-06, Amendment 39-22685 (89 FR 19228, March 18, 2024); and

b. Adding the following new AD:

Airbus Canada Limited Partnership (Type Certificate Previously Held by C Series Aircraft Limited Partnership (CSALP); Bombardier, Inc.): Docket No. FAA-2025-5024; Project Identifier MCAI-2025-00797-T.

(a) Comments Due Date

The FAA must receive comments on this airworthiness directive (AD) by January 5, 2026.

(b) Affected ADs

This AD replaces AD 2024-04-06, Amendment 39-22685 (89 FR 19228, March 18, 2024) (AD 2024-04-06).

(c) Applicability

This AD applies to Airbus Canada Limited Partnership (Type Certificate previously held by C Series Aircraft Limited Partnership (CSALP); Bombardier, Inc.) Model BD-500-1A10 and BD-500-1A11 airplanes, certificated in any category, as identified in Transport Canada AD CF-2025-24, dated April 29, 2025 (Transport Canada AD CF-2025-24).

(d) Subject

Air Transport Association (ATA) of America Code 28, Fuel.

(e) Unsafe Condition

This AD was prompted by reports of mechanical wear damage on the motive flow fuel-feed tubes that were secured by bonding clamps and clamp blocks inside the collector tank. This AD was also prompted by a determination that replacement of the saddle clamps of the motive flow tubes is also needed to address the unsafe condition. The FAA is issuing this AD to address mechanical wear damage on the motive flow fuel-feed tubes. The unsafe condition, if not addressed, could result in failure of the affected motive flow fuel-feed tubes and a subsequent failure of the gravity transfer system, which could lead to a fuel imbalance condition resulting in a reduction in airplane functional capabilities and increased crew workload.

(f) Compliance

Comply with this AD within the compliance times specified, unless already done.

(g) Requirements

Except as specified in paragraphs (h) and (i) of this AD: Comply with all required actions and compliance times specified in, and in accordance with, Transport Canada AD CF-2025-24.

(h) Exception to Transport Canada AD CF-2025-24

(1) Where Transport Canada AD CF-2025-24 refers to its effective date, this AD requires using the effective date of this AD.

(2) Where Transport Canada AD CF-2025-24 refers to hours air time, this AD requires using flight hours.

(3) Where Transport Canada AD CF-2025-24 refers to “4 January 2023” [the effective date of AD CF-2022-70], this AD requires using April 22, 2024 (the effective date of AD 2024-04-06).

(4) Where Parts II and III of Transport Canada AD CF-2025-24 specify “rectify, as applicable,” this AD requires replacing that text with “accomplish all applicable corrective actions before further flight”.

(5) Where the service information referenced in Part II of Transport Canada AD CF-2025-24 specifies to do rework if there is no damage or paint damage only, operators may either do the rework or replace the fuel tubes as specified in the service information referenced in Part II of Transport Canada AD CF-2025-24.

(6) Where Part III of Transport Canada AD CF-2025-24 specifies inspecting for “a damage”, this AD requires replacing that text with “damage (damage includes, but is not limited to, cracks, scores, scratches, nicks, and gouges)”.

(i) No Reporting Requirement

Although the service information referenced in Transport Canada AD CF-2025-24 specifies to submit certain information to the manufacturer, this AD does not include that requirement.

(j) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (k) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or Transport Canada; Airbus Canada Limited Partnership (Type Certificate Previously Held by C Series Aircraft Limited Partnership (CSALP); Bombardier, Inc.)'s Transport Canada Design Approval Organization (DAO). If approved by the DAO, the approval must include the DAO-authorized signature.

(k) Additional Information

For more information about this AD, contact Erica Bayles, Aviation Safety Engineer, FAA, 2200 South 216th St., Des Moines, WA 98198; phone: 907-271-5844; email: erica.e.bayles@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) Transport Canada AD CF-2025-24, dated April 29, 2025.

(ii) [Reserved]

(3) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca. You may find this material on the Transport Canada website at tc.canada.ca/en/aviation.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 17, 2025.
Peter A. White,
Deputy Director, Integrated Certificate Management Division, Aircraft Certification Service.

[FR Doc. 2025-20323 Filed 11-18-25; 8:45 am]

BILLING CODE 4910-13-P